DEPARTMENT OF HEALTH AND HUMAN SERVICES

National Institutes of Health

National Institute of Allergy and Infectious Diseases; Amended Notice of Meeting

Notice is hereby given of a change in the meeting of the Microbiology and Infectious Diseases Research Committee, June 04, 2020, 09:00 a.m. to June 05, 2020, 06:00 p.m., Embassy Suites Hotel, 4300 Military Road, Washington, DC 20015 which was published in the Federal Register on January 16, 2020, 85 FR 515.

This meeting notice is amended to change the meeting type from regular in person to teleconference.

The meeting is closed to the public.

Dated: March 30, 2020.
Tyeshia M. Roberson,
Program Analyst, Office of Federal Advisory Committee Policy.

[FR Doc. 2020-06970 Filed 4-2-20; 8:45 am]

BILLING CODE 4140-01-P